DEPARTMENT OF VETERANS AFFAIRS

[OMB Control No. 2900-0675]

Agency Information Collection Activities Under OMB Review

AGENCY: Office of Small and Disadvantaged Business Utilization, Department of Veterans Affairs.

ACTION: Notice.

SUMMARY: In compliance with the Paperwork Reduction Act (PRA) of 1995 (44 U.S.C. 3501-21), this notice announces that the Veterans Office of Small and Disadvantaged Business Utilization (OSDBU), Department of Veterans Affairs, has submitted the collection of information abstracted below to the Office of Management and Budget (OMB) for review and comment. The PRA submission describes the nature of the information collection and its expected cost and burden; it includes the actual data collection instrument.

DATES: Comments must be submitted on or before December 14, 2007.

ADDRESSES: Submit written comments on the collection of information through www.Regulations.gov; or to VA's OMB Desk Officer, OMB Human Resources and Housing Branch, New Executive Office Building, Room 10235, Washington, DC 20503 (202) 395-7316. Please refer to “OMB Control No. 2900-0675” in any correspondence.

For Further Information or a Copy of the Submission Contact: Denise McLamb, Records Management Service (005R1B), Department of Veterans Affairs, 810 Vermont Avenue, NW., Washington, DC 20420, (202) 461-7485, Fax (202) 461-0443 or e-mail: denise.mclamb@mail.va.gov. Please refer to “OMB Control No. 2900-0675.”

SUPPLEMENTARY INFORMATION: Title: VetBiz Vendor Information Pages and VA Form 0877.

OMB Control Number: 2900-0675.

Type of Review: Extension of a currently approved collection.

Abstract: The Vendor Information Pages (VIP) will be used to assist federal agencies in identifying small businesses owned and controlled by veterans and service-connected disabled veterans. This information is necessary to ensure that veteran-owned businesses are given the opportunity to participate in Federal contracts and receive contract solicitations information automatically. VA will use the data collected on VA Form 0877 to verify small businesses as veteran-owned or service-disabled veteran-owned.

An agency may not conduct or sponsor, and a person is not required to respond to a collection of information unless it displays a currently valid OMB control number. The Federal Register Notice with a 60-day comment period soliciting comments on this collection of information was published on September 6, 2007 at pages 51303-51304.

Affected Public: Business or other for-profit, and individuals or households.

Estimated Annual Burden: 5,000 hours.

Estimated Average Burden Per Respondent:

VetBiz Vendor Information Pages—20 minutes.

VA Form 0877—5 minutes.

Frequency of Response: On occasion.

Estimated Number of Respondents: 12,000.

Dated: November 6, 2007.
By direction of the Secretary:
Denise McLamb,
Program Analyst, Records Management Service.

[FR Doc. E7-22209 Filed 11-13-07; 8:45 am]

BILLING CODE 8320-01-P